DEPARTMENT OF COMMERCE

National Oceanic and Atmospheric Administration

Federal Consistency Appeal by Villa Marina Yacht Harbor, Inc. From an Objection by the Puerto Rico Planning Board

AGENCY: National Oceanic and Atmospheric Administration.

ACTION: Notice of appeal and request for comments.

SUMMARY: Villa Marina Yacht Harbor, Inc. has filed an administrative appeal with the Department of Commerce asking that the Secretary of Commerce override the Puerto Rico Planning Board's objection to the proposed expansion of an existing marina located in Sardinera Bay, Sardinera Ward, Fajardo, Puerto Rico.

DATES: Public comments on the appeal are due within 30 days of the publication of this notice.

ADDRESSES: All e-mail comments on issues relevant to the Secretary's decision of this appeal may be submitted to villamarina.comments@noaa.gov. Comments may also be sent by mail to Molly Holt, Attorney-Adviser, NOAA Office of the General Counsel for Ocean Services, National Oceanic and Atmospheric Administration, U.S. Department of Commerce, 1305 East-West Highway, Room 6111, Silver Spring, MD 20910. Materials from the appeal record will be available at the Internet site http://www.ogc.doc.gov/czma.htm and at the NOAA Office of the General Counsel for Ocean Services. In addition, public filings made by the parties to the appeal will be available at the offices of the Puerto Rico Planning Board.

FOR FURTHER INFORMATION CONTACT: Molly Holt, Attorney-Adviser, NOAA Office of the General Counsel for Ocean Services, National Oceanic and Atmospheric Administration, U.S. Department of Commerce, 1305 East-West Highway, Room 6111, Silver Spring, MD 20910 or at (301) 713-2967, extension 215.

SUPPLEMENTARY INFORMATION:

I. Notice of Appeal

On October 31, 2003, Villa Marina Yacht Harbour, Inc. (Appellant) filed a notice of appeal with the Secretary of Commerce (Secretary) pursuant to section 307(c)(3)(A) of the Coastal Zone Management Act of 1972 (CZMA), as amended, 16 U.S.C. 1451 et seq., and the Department of Commerce's implementing regulations, 15 CFR part 930, subpart H. The appeal is taken from an objection by the Puerto Rico Planning Board (PRPB) to Appellant's consistency certification for a U.S. Army Corps of Engineers permit for a marina expansion. This project is located in Sardinera Bay, Sardinera Ward, Fajardo, Puerto Rico.

The CZMA provides that a timely objection by a State precludes any Federal agency from issuing licenses or permits for the activity unless the Secretary finds that the activity is either “consistent with the objectives” of the CZMA (Ground I) or “necessary in the interest of national security” (Ground II). Section 307(c)(3)(A). To make such a determination, the Secretary must find that the proposed project satisfies the requirements of 15 CFR 930.121 or 930.122.

The Appellant requests that the Secretary override the State's consistency objections based on Ground I. To make the determination that the proposed activity is “consistent with the objectives” of the CZMA, the Secretary must find that: (1) The proposed activity furthers the national interest as articulated in section 302 or 303 of the CZMA, in a significant or substantial manner; (2) the adverse effects of the proposed activity do not outweigh its contribution to the national interest, when those effects are considered separately or cumulatively; and (3) no reasonable alternative is available that would permit the activity to be conducted in a manner consistent with enforceable policies of Puerto Rico's management program. 15 CFR 930.121.

II. Public Comments

Written public comments are invited on any of the issues that the Secretary must consider in deciding this appeal. Comments must be received within 30 days of the publication of this notice, and may be submitted by e-mail to villamarina.comments@noaa.gov. Comments may also be sent to Molly Holt, Attorney-Adviser, NOAA Office of the General Counsel for Ocean Services, National Oceanic and Atmospheric Administration, U.S. Department of Commerce, 1305 East-West Highway, Room 6111, Silver Spring, MD 20910. Comments will be made available to the Appellant and the State; they will also be posted on a Department of Commerce Web site identified below.

III. Appeal Documents

NOAA intends to provide the public with access to all materials and related documents comprising the appeal record via the Internet at http://www.ogc.doc.gov/czma.htm and, during business hours, at the NOAA Office of the General Counsel for Ocean Services. In addition, copies of public filings by the parties will be available for review at the offices of the Puerto Rico Planning Board.

Dated: May 28, 2004.
(Federal Domestic Assistance Catalog No. 11.419 Coastal Zone Management Program Assistance)
James R. Walpole,
General Counsel.

[FR Doc. 04-12835 Filed 6-7-04; 8:45 am]

BILLING CODE 3510-08-M